DEPARTMENT OF ENERGY

Federal Energy Regulatory Commission

Combined Notice of Filings #1

Take notice that the Commission received the following electric rate filings:

Docket Numbers: ER10-1338-004.

Applicants: Southern Indiana Gas and Electric Company, Inc.

Description: Triennial Market Power Analysis for Central Region of Southern Indiana Gas and Electric Company, Inc.

Filed Date: 12/30/20.

Accession Number: 20201230-5360.

Comments Due: 5 p.m. ET 3/1/21.

Docket Numbers: ER10-2127-020.

Applicants: Invenergy TN LLC.

Description: Triennial Market Power Analysis for Southeast Region of Invenergy TN LLC.

Filed Date: 12/31/20.

Accession Number: 20201231-5035.

Comments Due: 5 p.m. ET 3/2/21.

Docket Numbers: ER10-2134-013.

Applicants: Hardee Power Partners Limited.

Description: Triennial Market Power Analysis for Southeast Region of Hardee Power Partners Limited.

Filed Date: 12/31/20.

Accession Number: 20201231-5034.

Comments Due: 5 p.m. ET 3/2/21.

Docket Numbers: ER10-2877-003.

Applicants: Cobb Electric Membership Corporation.

Description: Triennial Market Power Analysis for Southeast Region of Cobb Electric Membership Corporation.

Filed Date: 12/30/20.

Accession Number: 20201230-5258.

Comments Due: 5 p.m. ET 3/1/21.

Docket Numbers: ER10-3079-018.

Applicants: Tyr Energy, LLC.

Description: Triennial Market Power Analysis for Southeast Region of Tyr Energy, LLC.

Filed Date: 12/30/20.

Accession Number: 20201230-5359.

Comments Due: 5 p.m. ET 3/1/21.

Docket Numbers: ER10-3109-013.

Applicants: Washington County Power, LLC.

Description: Triennial Market Power Analysis for Southeast Region of Washington County Power, LLC.

Filed Date: 12/30/20.

Accession Number: 20201230-5371.

Comments Due: 5 p.m. ET 3/1/21.

Docket Numbers: ER12-637-006.

Applicants: Calhoun Power Company, LLC.

Description: Triennial Market Power Analysis for Southeast Region of Calhoun Power Company, LLC.

Filed Date: 12/30/20.

Accession Number: 20201230-5358.

Comments Due: 5 p.m. ET 3/1/21.

Docket Numbers: ER17-615-004; ER10-2184-028; ER10-2192-036; ER10-2178-036; ER11-2014-026; ER11-2013-026; ER13-1536-020; ER11-2005-026.

Applicants: Albany Green Energy, LLC, CER Generation, LLC, Constellation Energy Commodities Group Maine, LLC, Constellation NewEnergy, Inc., Cow Branch Wind Power, LLC, CR Clearing, LLC, Exelon Generation Company, LLC, Wind Capital Holdings, LLC.

Description: Triennial Market Power Analysis for Southeast Region of Exelon Southeast MBR Entities.

Filed Date: 12/30/20.

Accession Number: 20201230-5242.

Comments Due: 5 p.m. ET 3/1/21.

Docket Numbers: ER20-1505-002.

Applicants: Basin Electric Power Cooperative.

Description: Triennial Market Power Analysis for Central Region of Basin Electric Power Cooperative.

Filed Date: 12/30/20.

Accession Number: 20201230-5229.

Comments Due: 5 p.m. ET 3/1/21.

Docket Numbers: ER21-251-001.

Applicants: Degrees3 Transportation Solutions, LLC.

Description: Tariff Amendment: Amendment to 1 to be effective 10/30/2020.

Filed Date: 12/31/20.

Accession Number: 20201231-5017.

Comments Due: 5 p.m. ET 1/21/21.

Docket Numbers: ER21-775-000.

Applicants: NorthWestern Corporation.

Description: § 205(d) Rate Filing: SA 305 16th Rev—NITSA with Stillwater Mining Company to be effective 3/1/2021.

Filed Date: 12/30/20.

Accession Number: 20201230-5220.

Comments Due: 5 p.m. ET 1/21/21.

Docket Numbers: ER21-776-000.

Applicants: East Coast Power and Gas, LLC.

Description: Tariff Cancellation: Cancellation Filing to be effective 12/31/2020.

Filed Date: 12/31/20.

Accession Number: 20201231-5000.

Comments Due: 5 p.m. ET 1/21/21.

Docket Numbers: ER21-777-000.

Applicants: NSTAR Electric Company.

Description: § 205(d) Rate Filing: Large Generator Interconnection Agreement -MMWEC, Stony Brook?Ludlow to be effective 12/31/2020.

Filed Date: 12/31/20.

Accession Number: 20201231-5002.

Comments Due: 5 p.m. ET 1/21/21.

Docket Numbers: ER21-778-000.

Applicants: Niagara Mohawk Power Corporation, New York Independent System Operator, Inc.

Description: § 205(d) Rate Filing: Reimbursement Agreement (SA 2590) between NMPC and NY Transco to be effective 12/11/2020.

Filed Date: 12/31/20.

Accession Number: 20201231-5004.

Comments Due: 5 p.m. ET 1/21/21.

Docket Numbers: ER21-779-000.

Applicants: NorthWestern Corporation.

Description: Compliance filing: Order No. 864 Compliance Filing (Montana OATT) to be effective 1/27/2020.

Filed Date: 12/31/20.

Accession Number: 20201231-5011.

Comments Due: 5 p.m. ET 1/21/21.

Docket Numbers: ER21-780-000.

Applicants: PJM Interconnection, L.L.C.

Description: § 205(d) Rate Filing: Original ISA, SA No. 5863; Queue No. AE2-249 to be effective 12/3/2020.

Filed Date: 12/31/20.

Accession Number: 20201231-5016.

Comments Due: 5 p.m. ET 1/21/21.

Docket Numbers: ER21-781-000.

Applicants: Duke Energy Carolinas, LLC.

Description: § 205(d) Rate Filing: Revisions to Rate Schedule Nos. 315, 316, 317, and 335 to be effective 1/1/2021.

Filed Date: 12/31/20.

Accession Number: 20201231-5020.

Comments Due: 5 p.m. ET 1/21/21.

Docket Numbers: ER21-782-000.

Applicants: ISO New England Inc., New England Power Pool Participants Committee.

Description: § 205(d) Rate Filing: ISO-NE & NEPOOL; Change to Implement New Methodology for Calculating FCM DDBT to be effective 3/2/2021.

Filed Date: 12/31/20.

Accession Number: 20201231-5026.

Comments Due: 5 p.m. ET 1/21/21.

Docket Numbers: ER21-783-000.

Applicants: Southwest Power Pool, Inc.

Description: § 205(d) Rate Filing: 3330R3 City of Nixa, Missouri to be effective 12/1/2020.

Filed Date: 12/31/20.

Accession Number: 20201231-5032.

Comments Due: 5 p.m. ET 1/21/21.

Docket Numbers: ER21-784-000.

Applicants: New York State Electric & Gas Corporation.

Description: § 205(d) Rate Filing: Revisions to 2020 Facilities Agreement Update to be effective 1/1/2021.

Filed Date: 12/31/20.

Accession Number: 20201231-5033.

Comments Due: 5 p.m. ET 1/21/21.

Docket Numbers: ER21-785-000.

Applicants: Southwest Power Pool, Inc.

Description: § 205(d) Rate Filing: 3751 NorthWestern Energy NITSA and NOA to be effective 12/1/2020.

Filed Date: 12/31/20.

Accession Number: 20201231-5037.

Comments Due: 5 p.m. ET 1/21/21.

Docket Numbers: ER21-786-000.

Applicants: Trans Bay Cable LLC.

Description: § 205(d) Rate Filing: Annual TRBAA Filing—2020 to be effective 1/1/2021.

Filed Date: 12/31/20.

Accession Number: 20201231-5038.

Comments Due: 5 p.m. ET 1/21/21.

Docket Numbers: ER21-787-000.

Applicants: ISO New England Inc.

Description: § 205(d) Rate Filing: ISO-NE; Updates to CONE, Net CONE, and Capacity Performance Payment Rate to be effective 3/2/2021.

Filed Date: 12/31/20.

Accession Number: 20201231-5060.

Comments Due: 5 p.m. ET 1/21/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 31, 2020.
Nathaniel J. Davis, Sr.,
Deputy Secretary.

[FR Doc. 2020-29324 Filed 1-6-21; 8:45 am]

BILLING CODE 6717-01-P